RAILROAD RETIREMENT BOARD

Proposed Collection; Comment Request

SUMMARY: In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Public Service Pension Questionnaires; OMB 3220-0136. Public Law 95-216 amended the Social Security Act of 1977 by providing, in part, that spouse or survivor benefits may be reduced when the beneficiary is in receipt of a pension based on employment with a Federal, State, or local governmental unit. Initially, the reduction was equal to the full amount of the government pension.

Public Law 98-21 changed the reduction to two-thirds of the amount of the government pension.

Public Law 108-203, the Social Security Protection Act of 2004, was enacted on March 2, 2004. Section 418 of the Act changes the requirements a spouse or widow(er) who is employed by a Federal, State or local government must meet in order to be exempt from the public pension offset. Under the new provisions, if the application for railroad benefits is filed after March 2004 and the last day of public service is after June 30, 2004, FICA (Federal Insurance Contributions Act) taxes must have been deducted from the public service employment for the last 60 months of this employment. Previously, FICA taxes had to be deducted from the public service employment only on the person's last day of employment. A transition provision applies to these changes for workers whose last day of government employment occurs within five years after the March 2, 2004, date of enactment. For these workers, the requirement for 60 consecutive months of social security covered employment is shortened by the total number of months that the worker had in social security covered government service under the same retirement system before the date of enactment, but not to less than one month. If the 60-month period is shortened, the remaining months of service needed to fulfill the requirement must be performed after March 2, 2004, and in the last months of public service employment.

Sections 4(a)(1) and 4(f)(1) of the Railroad Retirement Act (RRA) provides that a spouse or survivor annuity should be equal in amount to what the annuitant would receive if entitled to a like benefit from the Social Security Administration. Therefore, the public service pension (PSP) provisions apply to RRA annuities.

RRB Regulations pertaining to the collection of evidence relating to public service pensions or worker's compensation paid to spouse or survivor applicants or annuitants are found in 20 CFR 219.64c.

The RRB utilizes Form G-208, Public Service Pension Questionnaire, and Form G-212, Public Service Monitoring Questionnaire, to obtain information used to determine whether an annuity reduction is in order. The RRB proposes to revise Form G-208 to add questions needed to determine if the public pension offset applies as well as minor non-burden impacting editorial changes. No changes are proposed to Form G-212.

Completion of the forms is voluntary. However, failure to complete the forms could result in the nonpayment of benefits. One response is requested of each respondent. The completion time for the G-208 is estimated at 16 minutes and the G-212 is estimated at 15 minutes. The RRB estimates that approximately 70 Form G-208's and 1,100 Form G-212's are completed annually.

FOR FURTHER INFORMATION CONTACT: To request more information or to obtain a copy of the information collection justification, forms, and/or supporting material, please call the RRB Clearance Officer at (312) 751-3363 or send an e-mail request to Charles.Mierzwa@RRB.GOV. Comments regarding the information collection should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. 04-8621 Filed 4-15-04; 8:45 am]

BILLING CODE 7905-01-P